DEPARTMENT OF DEFENSE

Office of the Secretary

[Transmittal No. 24-11]

Arms Sales Notification

AGENCY: Defense Security Cooperation Agency, Department of Defense (DoD).

ACTION: Arms sales notice.

SUMMARY: The DoD is publishing the unclassified text of an arms sales notification.

FOR FURTHER INFORMATION CONTACT: Urooj Zahra at (703) 695-6233, urooj.zahra.civ@mail.mil, or dsca.ncr.rsrcmgmt.list.cns-mbx@mail.mil.

SUPPLEMENTARY INFORMATION: This 36(b)(1) arms sales notification is published to fulfill the requirements of section 155 of Public Law 104-164 dated July 21, 1996. The following is a copy of a letter to the Speaker of the House of Representatives with attached Transmittal 24-11, Policy Justification, and Sensitivity of Technology.

Dated: December 10, 2025.
Stephanie J. Bost,
Alternate OSD Federal Register Liaison Officer, Department of Defense.

BILLING CODE 6001-FR-P

BILLING CODE 6001-FR-C

Transmittal No. 24-11

Notice of Proposed Issuance of Letter of Offer Pursuant to Section 36(b)(1) of the Arms Export Control Act

(i) Prospective Purchaser: Kingdom of Saudi Arabia

(ii) Total Estimated Value:

Major Defense Equipment * | $280.5 million
Other | $159.5 million
TOTAL | $440.0 million

Funding Source: National Funds

(iii) Description and Quantity or Quantities of Articles or Services under Consideration for Purchase:

Major Defense Equipment (MDE):

Five hundred seven (507) tube-launched, optically tracked, wireless-guided (TOW) 2A, radio frequency (RF) missiles (BGM-71E-4B-RF) (includes 7 “fly-to-buy” missiles)

Five hundred seven (507) TOW 2B, RF missiles (BGM-71F-3-RF) (includes 7 “fly-to-buy” missiles)

Non-MDE:

The following non-MDE is also included: support and test equipment; simulators; generators; integration and test support; spare and repair parts; communications equipment; software delivery and support; facilities and construction support; publications and technical documentation; personnel training and training equipment; support equipment; United States (U.S.) Government and contractor engineering, technical, and logistics support services; studies and surveys; and other related elements of logistics and program support.

(iv) Military Department: Army (SI-B-WYT)

(v) Prior Related Cases, if any: None

(vi) Sales Commission, Fee, etc., Paid, Offered, or Agreed to be Paid: None known at this time

(vii) Sensitivity of Technology Contained in the Defense Article or Defense Services Proposed to be Sold: See Attached Annex

(viii) Date Report Delivered to Congress: October 24, 2024

* as defined in Section 47(6) of the Arms Export Control Act.

POLICY JUSTIFICATION

Kingdom of Saudi Arabia—tube-launched, optically-tracked, wireless-guided 2A, radio frequency missiles (BGM-71E-4B-RF), tube-launched, optically-tracked, wireless-guided 2B, radio frequency missiles (BGM-71F-3-RF), and Support

The Kingdom of Saudi Arabia has requested to buy five hundred seven (507) tube-launched, optically tracked, wireless-guided (TOW) 2A, radio frequency (RF) missiles (BGM-71E-4B-RF) (including 7 “fly-to-buy” missiles); and five hundred seven (507) TOW 2B, RF missiles (BGM-71F-3-RF) (including 7 “fly-to-buy” missiles). The following non-MDE is also included: support and test equipment; simulators; generators; integration and test support; spare and repair parts; communications equipment; software delivery and support; facilities and construction support; publications and technical documentation; personnel training and training equipment; support equipment; U.S. Government and contractor engineering, technical, and logistics support services; studies and surveys; and other related elements of logistics and program support. The estimated total cost is $440 million.

This proposed sale will support the foreign policy goals and national security objectives of the U.S. by improving the security of a partner country that is a force for political stability and economic progress in the Gulf Region.

The proposed sale will improve the Kingdom of Saudi Arabia's capability to meet current and future threats by enhancing the strength of its homeland defense. The Kingdom of Saudi Arabia will have no difficulty absorbing this equipment and services into its armed forces.

The proposed sale of this equipment and support will not alter the basic military balance in the region.

The principal contractor will be RTX Corporation located in Tucson, AZ. The purchaser typically requests offsets. Any offset agreement will be defined in negotiations between the purchaser and the contractor.

Implementation of this proposed sale will not require the assignment of any additional U.S. Government and contractor representatives to the Kingdom of Saudi Arabia.

There will be no adverse impact on U.S. defense readiness as a result of this proposed sale.

Transmittal No. 24-11

Notice of Proposed Issuance of Letter of Offer Pursuant to Section 36(b)(1) of the Arms Export Control Act

Annex

Item No. vii

(vii) Sensitivity of Technology:

1. The tube-launched, optically tracked, wireless-guided (TOW) 2A radio frequency (RF) missile (BGM-71-4B-RF) is a direct attack missile, while the TOW 2B RF missile (BGM-71F-3-RF) is a top attack missile. Both are designed to defeat armored vehicles, reinforced urban structures, field fortifications, and other such targets. TOW missiles are fired from a variety of TOW launchers. The RF missiles can be launched from the same launcher platforms as the existing wire-guided missiles without modification to the launcher. TOW 2A and TOW 2B missiles contain two tracker beacons (Xenon and thermal) for the launcher to track and guide the missile in flight. Guidance commands from the launcher are provided to the missile by the RF link contained within the missile case.

2. The highest level of classification of defense articles, components, and services included in this potential sale is UNCLASSIFIED.

3. If a technologically advanced adversary were to obtain knowledge of the specific hardware and software elements, the information could be used to develop countermeasures that might reduce weapon effectiveness or be used in the development of a system with similar or advanced capabilities.

4. A determination has been made that the Kingdom of Saudi Arabia can provide substantially the same degree of protection for the sensitive technology being released as the U.S. Government. This sale is necessary in furtherance of the U.S. foreign policy and national security objectives outlined in the Policy Justification.

5. All defense articles and services listed in this transmittal have been authorized for release and export to the Kingdom of Saudi Arabia.

[FR Doc. 2025-22719 Filed 12-12-25; 8:45 am]

BILLING CODE 6001-FR-P